DEPARTMENT OF HOMELAND SECURITY

Coast Guard

46 CFR Part 401

[USCG-2002-11288]

RIN 1625-AA38

Rates for Pilotage on the Great Lakes; Correction

AGENCY: Coast Guard, DHS.

ACTION: Notice correcting notice of proposed rulemaking, announcing public meeting, and extending period for comment.

SUMMARY: This document corrects the notice of proposed rulemaking (NPRM) published in the Federal Register on January 23, 2003. It also announces a public meeting for April 14, 2003. And it also extends the NPRM's comment period through May 1, 2003, to afford the general public an opportunity for comment on the NPRM as here corrected. A review and audit of this NPRM, conducted after publication, identified an erroneous number and an error in the formula used to compute return on investment.

DATES: Effective on April 1, 2003. A public meeting will take place from 10 a.m. to 4 p.m. on April 14, 2003. Comments and related material must reach the Docket Management Facility on or before May 1, 2003.

ADDRESSES: A public meeting will take place in Room 2415, U.S. Coast Guard Headquarters, 2100 Second Street SW., Washington DC 20593-0001. This meeting may close early if all business is finished. To make sure that your comments and related material are not entered more than once in the docket, please submit them by only one of the following means:

(1) Electronically through the Web Site for the Docket Management System at http://dms.dot.gov.

(2) By mail to the Docket Management Facility (USCG-2002-11288), U.S. Department of Transportation, room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: For questions on this notice or questions concerning the docket call or e-mail Tom Lawler, Chief Economist, Office of Great Lakes Pilotage (G-MW-1), U.S. Coast Guard, at telephone 202-267-1241, or tlawler@comdt.uscg.mil. For questions on viewing or submitting material to the docket, call Dorothy Beard, Chief, Dockets, Department of Transportation, telephone 202-366-5149.

SUPPLEMENTARY INFORMATION:

Request for Comments

We encourage you to participate in this rulemaking by submitting comments and related material. If you do so, please include your name and address, identify the docket number for this rulemaking [USCG-2002-11288], indicate the specific section of this document to which each comment applies, and give the reason for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period. We may change the proposed rule in view of them.

Public Meeting

A public meeting will take place from 10 a.m. to 4 p.m. on April 14, 2003, in Room 2415, U.S. Coast Guard Headquarters, 2100 Second Street SW., Washington DC 20593-0001. This meeting may close early if all business is finished.

Please send requests to make oral presentations to: Tom Lawler, Commandant (G-MW-1), U.S. Coast Guard Headquarters, 2100 Second Street SW., Washington, DC 20593-0001.

Whether or not able to attend the public meeting, people should send written comments to the Docket Management Facility, as directed under ADDRESSES, during the comment period.

Need for Correction

The NPRM, as published, contained an erroneous number for the total of District 1's operating expenses and understated the total revenue required by each of the three Districts to cover operating expenses, pilots' target compensation, and return on investment. This was due to an error in the calculation used to compute the total dollar return on the investment base of one pilots' association. Because of this error, the percentage of pilotage-rate adjustment in rates for Areas 4, 5, 7, and 8 was understated by 1%; and because of this the proposed charges for pilotage services in those areas was understated, also by 1%.

Correction of Publication

Accordingly, we correct the NPRM, FR Doc. 03-1461, published January 23, 2003 (68 FR 3202), as follows (with upper-case or lower-case initial letters, as appropriate):

1. On page 3204, in the table contained in the paragraph titled “What Is the Coast Guard Proposing in This Rulemaking?”, change the percentage for Area 4, increase 31%, to increase 32%; change the percentage for Area 5, increase 17%, to increase 18%; change the percentage for Area 7, increase 3%, to increase 4%; and change the percentage for Area 8, increase 28%, to increase 29%.

2. On page 3204, in Table A-DISTRICT ONE Step 1, change the figure under Total District One to $599,506.

3. On page 3204, in Table A-DISTRICT ONE Step 6, change:

Step 6, Adjustment determination | $1,356,243 | $1,019,063 | $2,375,306

to:

Step 6, Adjustment determination | $1,359,515 | $1,022,335 | $2,381,850

4. On page 3204 in Table B.—DISTRICT TWO Steps 6 and 7, change:

emsp; | emsp; | emsp; | emsp;
Step 6, Adjustment determination | $925,306 | $1,712,340 | $2,637,646
Step 7, Adjustment of pilotage rates | 1.31 (+31%) | 1.17 (+17%) | 1.22 (+22%)

to:

emsp; | emsp; | emsp; | emsp;
Step 6, Adjustment determination | $931,178 | $1,721,525 | $2,652,703
Step 7, Adjustment of pilotage rates | 1.32 (+32%) | 1.18 (+18%) | 1.22 (+22%)

5. On page 3204 in Table C.—DISTRICT THREE Step 6, change:

emsp; | emsp; | emsp; | emsp; | emsp;
Step 6, Adjustment determination | $1,841,115 | $1,156,463 | $1,319,623 | $4,317,201

To:

emsp; | emsp; | emsp; | emsp; | emsp;
Step 6, Adjustment determination | $1,848,423 | $1,161,943 | $1,325,104 | $4,335,471

to:

6. On page 3205, in Table C.—DISTRICT THREE Step 7, change:

emsp; | emsp; | emsp; | emsp; | emsp;
Step 7, Adjustment of pilotage rate | 1.20 (+20%) | 1.03 (+3%) | 1.28 (+28%) | 1.17 (+17%)

to:

emsp; | emsp; | emsp; | emsp; | emsp;
Step 7, Adjustment of pilotage rate | 1.20 (+20%) | 1.04 (+4%) | 1.29 (+29%) | 1.17 (+17%)

7. On page 3211, in the paragraph titled “Step 6: Adjustment Determination (Revenue Needed)” change the table—

District One
| Area 1 St. Lawrence River | Area 2 Lake Ontario | Total District One
Adjustment determination | $1,356,243 | $1,019,063 | $2,375,306

to:

District One
| Area 1 St. Lawrence River | Area 2 Lake Ontario | Total District One
Adjustment determination | $1,359,515 | $1,022,335 | $2,381,850

8. On page 3211, in the paragraph titled “Step 6: Adjustment Determination (Revenue Needed)” change the table—

District Two
| Area 4 Lake Erie | Area 5 Southeast Shoal to Port Huron, MI | Total District Two
Adjustment determination | $925,306 | $1,712,340 | $2,637,646

to:

District Two
| Area 4 Lake Erie | Area 5 Southeast Shoal to Port Huron, MI | Total District Two
Adjustment determination | $931,178 | $1,721,525 | $2,652,703

9. On page 3211, in the paragraph titled “Step 6: Adjustment Determination (Revenue Needed)” change the table—

District Three
| Area 6 Lakes Huron and Michigan | Area 7 St. Mary's River | Area 8 Lake Superior | Total District Three
Adjustment determination | $1,841,115 | $1,156,463 | $1,319,623 | $4,317,201

to:

District Three
| Area 6 Lakes Huron and Michigan | Area 7 St. Mary's River | Area 8 Lake Superior | Total District Three
Adjustment determination | $1,848,423 | $1,161,943 | $1,325,104 | $4,335,471

10. On page 3212, change the table—

District Two
| Area 4 Lake Erie | Area 5 Southeast Shoal to Port Huron, MI | Total District Two
Adjustment of pilotage rates | 1.31 (+31%) | 1.17 (+17%) | 1.22 (+22%)

to:

District Two
| Area 4 Lake Erie | Area 5 Southeast Shoal to Port Huron, MI | Total District Two
Adjustment of pilotage rates | 1.32 (+32%) | 1.18 (+18%) | 1.22 (+22%)

11. On page 3212, change the table—

District Three
| Area 6 Lakes Huron and Michigan | Area 7 St. Mary's River | Area 8 Lake Superior | Total District Three
Adjustment of pilotage rate | 1.20 (+20%) | 1.03 (+4%) | 1.28 (+28%) | 1.17 (+17%)

to:

District Three
| Area 6 Lakes Huron and Michigan | Area 7 St. Mary's River | Area 8 Lake Superior | Total District Three
Adjustment of pilotage rate | 1.20 (+20%) | 1.04 (+4%) | 1.29 (+29%) | 1.17 (+17%)

12. On page 3213, § 401.407 [Amended] in § 401.407(a), in change the table—

Service | Lake Erie (East of Southeast Shoal) | Buffalo
Six-Hour Period | $439 | $439
Docking or Undocking | 338 | 338
Any Point on the Niagara River below the Black Rock Lock | N/A | 862

to:

Service | Lake Erie (East of Southeast Shoal) | Buffalo
Six-Hour Period | $442 | $442
Docking or Undocking | 341 | 341
Any Point on the Niagara River below the Black Rock Lock | N/A | 869

13. On page 3214, in § 401.407(b), change the table—

Any point on or in | Southeast Shoal | Toledo or any point on Lake Erie west of Southeast Shoal | Detroit River | Detroit Pilot Boat | St. Clair River
Toledo or any port on Lake Erie west of Southeast Shoal Port Huron Change | $1,156 | $682 | $1,500 | $1,156 | N/A
Point | ¹ 2,012 | ¹ 2,332 | 1,513 | 1,176 | $837
St. Clair River | ¹ 2,012 | N/A | 1,513 | 1,513 | 682
Detroit or Windsor or the Detroit River | 1,156 | 1,500 | 682 | N/A | 1,513
Detroit Pilot Boat | 837 | 1,156 | N/A | N/A | 1,513
¹ When pilots are not changed at the Detroit Pilot Boat.

to:

Any point on or in | Southeast Shoal | Toledo or any point on Lake Erie west of Southeast Shoal | Detroit River | Detroit Pilot Boat | St. Clair River
Toledo or any port on Lake Erie west of Southeast Shoal | $1,166 | $688 | $1,513 | $1,166 | N/A
Port Huron Change Point | ¹ 2,030 | ¹ 2,352 | 1,526 | 1,186 | $844
St. Clair River | ¹ 2,030 | N/A | 1,526 | 1,526 | 688
Detroit or Windsor Or the Detroit River | 1,166 | 1,513 | 688 | N/A | 1,526
Detroit Pilot Boat | 844 | 1,166 | N/A | N/A | 1,526
¹ When pilots are not changed at the Detroit Pilot Boat.

14. On page 3214, § 401.410 [Amended] in § 401.410(b), change the table—

Area | Detour | Gros Cap | Any Harbor
Gros Cap | $1,479 | N/A | N/A
Algoma Steel Corporation Wharf at Sault Ste. Marie Ontario | 1,479 | 557 | N/A
Any point in Sault Ste. Marie, Ontario, except the Algoma Steel Corporation Wharf | 1,240 | 557 | N/A
Sault Ste. Marie, MI | 1,240 | 557 | N/A
Harbor Movage | N/A | N/A | $557

to:

Area | Detour | Gros Cap | Any Harbor
Gros Cap | $1,493 | N/A | N/A
Algoma Steel Corporation Wharf at Sault Ste. Marie Ontario | 1,494 | $563 | N/A
Any point in Sault Ste. Marie, Ontario, except the Algoma Steel Corporation Wharf | 1,252 | 563 | N/A
Sault Ste. Marie, MI | 1,252 | 563 | N/A
Harbor Movage | N/A | N/A | $563

15. On page 3214, in § 401.410(c), change the table—

Service | Lake Superior
Six-Hour Period | $334
Docking or Undocking | 319

to:

Service | Lake Superior
Six-Hour Period | $337
Docking or Undocking | 321

Dated: March 24, 2003.
Joseph J. Angelo,
Director of Standards, Marine Safety, Security & Environmental Protection.

[FR Doc. 03-7703 Filed 3-31-03; 8:45 am]

BILLING CODE 4910-15-P